DEPARTMENT OF COMMERCE

National Oceanic and Atmospheric Administration

50 CFR Part 648

[Docket No. 040112010-4114-02; I.D. 081204C]

Magnuson-Stevens Fishery Conservation and Management Act Provisions; Fisheries of the Northeastern United States; Northeast (NE) Multispecies Fishery; Implementation of the Yellowtail Flounder Landing Limit for Western and Eastern U.S./Canada Areas

AGENCY: National Marine Fisheries Service (NMFS), National Oceanic and Atmospheric Administration (NOAA), Commerce.

ACTION: Implementation of the Yellowtail Flounder Landing Limit for Western and Eastern U.S./Canada Areas.

SUMMARY: NMFS announces that the Administrator, Northeast Region, NMFS (Regional Administrator), has projected that 70 percent of the total allowable catch (TAC) of Georges Bank (GB) yellowtail flounder that may be harvested from the Western and Eastern U.S./Canada Areas will be harvested by August 18, 2004. The Regional Administrator, therefore, is implementing a yellowtail flounder trip limit of 1,500 lb (680.4 kg) per day, and 15,000 lb (6,804.1 kg) per trip for NE multispecies vessels fishing in both the Western and Eastern U.S./Canada Areas, effective August 18, 2004.

DATES: Effective 0001 hrs local time, August 18, 2004.

FOR FURTHER INFORMATION CONTACT: Douglas W. Christel, Fishery Policy Analyst, (978) 281-9141, fax (978) 281-9135.

SUPPLEMENTARY INFORMATION: Regulations governing the yellowtail flounder landing limit within the Western and Eastern U.S./Canada Areas are found at 50 CFR 648.85(a)(3)(iv)(C). The regulations authorize vessels issued a valid limited access NE multispecies permit and fishing under a NE multispecies day-at-sea (DAS) to fish in the U.S./Canada Management Area, under specific conditions. The TAC allocation for GB yellowtail flounder for the 2004 fishing year was specified at 6,000 mt in the final rule implementing Amendment 13 to the NE Multispecies Fishery Management Plan (FMP) (April 27, 2004, 69 FR 22906). Section 648.85(a)(3)(iv)(C)(2) authorizes the Regional Administrator to implement and/or adjust the yellowtail flounder landing limit for NE multispecies vessels fishing in both the Western and Eastern U.S./Canada Areas to 1,500 lb (680.4 kg) per day, and 15,000 lb (6,804.1 kg) per trip when 70 percent of the GB yellowtail flounder TAC is projected to be harvested.

Based upon Vessel Monitoring System reports and other available information, the Regional Administrator has determined that 70 percent (4,200 mt) of the GB yellowtail flounder TAC of 6,000 mt will be harvested by August 18, 2004. Based on this information, the trip limit of 1,500 lb (680.4 kg) per day, and 15,000 lb (6,804.1 kg) per trip, is implemented effective August 18, 2004, for NE multispecies vessels fishing in both the Western and Eastern U.S./Canada Areas.

Classification

This action is required by 50 CFR part 648 and is exempt from review under Executive Order 12866.

Authority: 16 U.S.C. 1801 et seq.

Dated: August 12, 2004.
Alan D. Risenhoover,
Acting Director, Office of Sustainable Fisheries, National Marine Fisheries Service.

[FR Doc. 04-18930 Filed 8-13-04; 2:34 pm]

BILLING CODE 3510-22-S